DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Chris Kornak at 240-627-3705 or Chris.Kornak@nih.gov. Licensing information may be obtained by communicating with the Technology Transfer and Intellectual Property Office, National Institute of Allergy and Infectious Diseases, 5601 Fishers Lane, Rockville, MD 20852; tel. 301-496-2644. A signed Confidential Disclosure Agreement will be required to receive copies of unpublished information related to the invention.

SUPPLEMENTARY INFORMATION: Technology description follows:

Floxed Targeted Mouse Strain for Use in Conditional Deletion of the Irf8 Gene

Description of Technology

IRF8, a member of interferon regulatory factor (IRF) family of transcription factors is a novel intrinsic transcriptional inhibitor of TH17-cell differentiation. TH17-cells are believed to be involved in the pathogenesis of various autoimmune/inflammatory diseases. The Irf8f floxed targeted mutated mouse strain can be used to selectively ablate expression of IRF8 in any cell type in which a Cre recombinase gene is activated. This will permit the identification of IRF8-regulated genes and their effects in specific types of developing and mature cells. These materials could be used to help define patterns of gene expression important for the development and function of cells including possible contributions to understanding: Normal immune responses, inflammatory conditions, autoimmunity and anti-viral responses.

This technology is available for licensing for commercial development in accordance with 35 U.S.C. 209 and 37 CFR part 404.

Potential Commercial Applications

• Target identification in B and T cell deficiency, macrophage defects and hematopoiesis.

• A tool for investigating IRF8 mediated issues associated with inflammation and autoimmunity.

• Investigative tool for development of potential therapeutics for lymphoma and Human Chronic Myeloid Leukemia.

Competitive Advantages

• Mice with established germ line transmission for use in conditional deletion of the IRF8 gene in any cell type.

Development Stage

• Research Use.

Inventors: Herbert Carpenter Morse III (NIAID).

Publications: Ouyang, Xinshou, et al. “Transcription factor IRF8 directs a silencing programme for TH17 cell differentiation.” Nature Communications 2, Article number: 314 (2011).

Licensing Contact: To license this technology, please contact Chris Kornak at 240-627-3705 or Chris.Kornak@nih.gov, and reference E-062-2012-0.

Dated: August 6, 2019.
Suzanne M. Frisbie,
Deputy Director, Technology Transfer and Intellectual Property Office, National Institute of Allergy and Infectious Diseases.

[FR Doc. 2019-17868 Filed 8-19-19; 8:45 am]

BILLING CODE 4140-01-P